DEPARTMENT OF DEFENSE

Department of the Navy

Notice of Intent To Grant Partially Exclusive Patent License; Lumedyne Technologies, Inc.

AGENCY: Department of the Navy, DoD.

ACTION: Notice.

SUMMARY: The Department of the Navy herby gives notice of its intent to grant to Lumedyne Technologies, Inc., a revocable, nonassignable, partially exclusive license in the United States to practice the Government-Owned inventions described in Navy Case No. 101330: Tuning Fork Gyroscope Time Domain Inertial Sensor.//Navy Case No. 101472: Auto-Ranging for Time Domain Extraction of Perturbations to Sinusoidal Oscillation.//Navy Case No. 101473: Closed-Loop Control Algorithm for a Gyroscope with Arbitrary Force and Angular Rate Inputs.//U.S. Patent Application No. 13/353205: Time Domain Tunneling Switched Multi-axial Gyroscope with Independent Acceleration Measurement.//U.S. Patent Application No. 13/425631: In-Plane, Six Degree of Freedom Inertial Device with Integrated Clock.//U.S. Patent Application No. 11/272588: Auto-Ranging for Time Domain Inertial Sensor.//U.S. Patent Application No. 13/288841: Oscillation Apparatus with Atomic-Layer Proximity Switch.//U.S. Patent No. 8174083: Dual-suspension system for MEMS-based devices.

DATES: Anyone wishing to object to the grant of this license must file written objections along with supporting evidence, if any, not later than June 25, 2012.

ADDRESS: Written objections are to be filed with the Office of Research and Technology Applications Space and Naval Warfare Systems Center Pacific, Code 72120, 53560 Hull St, Bldg A33 Room 2531, San Diego, CA 92152-5001.

FOR FURTHER INFORMATION CONTACT: Brian Suh, Office of Research and Technology Applications, Space and Naval Warfare Systems Center Pacific, Code 72120, 53560 Hull St, Bldg A33 Room 2531, San Diego, CA 92152-5001, telephone 619-553-5118, E-Mail: brian.suh@navy.mil.

Authority: 35 U.S.C. 207, 37 CFR part 404.

Dated: May 31, 2012.
J.M. Beal,
Lieutenant Commander, Judge Advocate General's Corps, U.S. Navy, Federal Register Liaison Officer.

[FR Doc. 2012-13867 Filed 6-7-12; 8:45 am]

BILLING CODE 3810-FF-P